NATIONAL AERONAUTICS AND SPACE ADMINISTRATION

[Notice (10-087)]

NASA Advisory Council; Aeronautics Committee; Meeting

AGENCY: National Aeronautics and Space Administration.

ACTION: Notice of meeting.

SUMMARY: In accordance with the Federal Advisory Committee Act, Public Law 92-463, as amended, the National Aeronautics and Space Administration announces a meeting of the Aeronautics Committee of the NASA Advisory Council. The meeting will be held for the purpose of soliciting from the aeronautics community and other persons research and technical information relevant to program planning.

DATES: Thursday, September 2, 2010,8 a.m. to 12:30 p.m.; Local Time.

ADDRESSES: NASA Ames Conference Center, Building 3, 500 Severyns Road, NASA Research Park, NASA Ames Research Center (ARC), Moffett Field, CA 95035-1000.

FOR FURTHER INFORMATION CONTACT: Ms. Susan L. Minor, Aeronautics Research Mission Directorate, National Aeronautics and Space Administration Headquarters, Washington, DC 20546, (202) 358-0566, or susan.l.minor@nasa.gov. Any person interested in participating in the meeting by Webex and telephone should contact Ms. Susan L. Minor at (202) 358-0566 for the Web link, toll-free number and passcode.

SUPPLEMENTARY INFORMATION: The meeting will be open to the public up to the capacity of the room. The agenda for the meeting includes the following topics:

• NASA Ames Research Center Overview.

• Airspace Systems Program research and development activities for the Next Generation Air Transportation System (NextGen).

• NextGen Technology Transfer.

• DASHLink tool overview.

• Verification and Validation research and development technical briefing.

It is imperative that these meetings be held on this date to accommodate the scheduling priorities of the key participants. Attendees will be requested to comply with NASA security requirements, including the presentation of a valid picture ID, before receiving an access badge. U.S. Citizens will need to show valid, officially-issued picture identification such as driver's license to enter into the NASA Research Park, and must state they are attending the NASA Advisory Council Aeronautics Committee session in the NASA ARC Conference Center. Permanent Resident Aliens will need to show residency status (valid green card) and must state they are attending the session in the NASA ARC Conference Center. All non-U.S. citizens must submit, no less that 10 working days prior to the meeting, their name, current address, citizenship, company affiliation (if applicable) to include address, telephone number, and their title, place of birth, date of birth, U.S. visa information to include type, number, and expiration date, U.S. Social Security Number (if applicable) to Rho Christensen, Protocol Specialist, Office of the Center Director, NASA ARC, Moffett Field, CA. For questions, please contact Ms. Rho Christensen at (650) 604-2476 or rho.christensen@nasa.gov.

Dated: August 10, 2010.
P. Diane Rausch,
Advisory Committee Management Officer, National Aeronautics and Space Administration.

[FR Doc. 2010-20221 Filed 8-16-10; 8:45 am]

BILLING CODE 7510-13-P